ENVIRONMENTAL PROTECTION AGENCY

[ER-FRL-9046-3]

Environmental Impact Statements; Notice of Availability

Responsible Agency: Office of Federal Activities, General Information (202) 564-5632 or https://www.epa.gov/ nepa/.

Weekly receipt of Environmental Impact Statements

Filed 08/05/2019 Through 08/09/2019

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20190190, Final, NMFS, CA, Changes to Pacific Coast Groundfish Essential Fish Habitat Conservation Areas and Boundaries of the Trawl Gear Rockfish Conservation Area Final Environmental Impact Statement, Magnuson-Stevens Act Analysis, Regulatory Impact Review, and Regulatory Flexibility Analysis, Review Period Ends: 09/06/2019. Contact: Gretchen Hanshew 206-526-6147.

Under Section 1506.10(d) of the Council on Environmental Quality Regulations for Implementing the Procedural Provisions of the National Environmental Policy Act, the U.S. Environmental Protection Agency has Granted a 9-Day Waiver for the above EIS.

EIS No. 20190191, Draft, USFS, OR, Calf-Copeland Restoration Project, Comment Period Ends: 09/30/2019, Contact: Richard Helliwell 541-957-3337.

EIS No. 20190193, Final, NMFS, ME, Amendment 8 to the Atlantic Herring Fishery Management Plan, Review Period Ends: 09/16/2019, Contact: Carrie Nordeen 978-281-9272.

Amended Notice

EIS No. 20190154, Draft, FERC, AK, Alaska LNG Project-Draft Environmental Impact Statement, Comment Period Ends: 10/03/2019, Contact: Office of External Affairs 866-208-3372, Revision to FR Notice Published 07/05/2019; Extending the Comment Period from 08/19/2019 to 10/03/2019.

Dated: August 14, 2019.
Cindy S. Barger,
Acting Director, Office of Federal Activities.

[FR Doc. 2019-17715 Filed 8-15-19; 8:45 am]

BILLING CODE 6560-50-P